SECURITIES AND EXCHANGE COMMISSION

17 CFR Part 240

[Release No. 34-67405A; File No. S7-30-11]

RIN 3235-AL19

Extension of Interim Final Temporary Rule on Retail Foreign Exchange Transactions; Correction

AGENCY: Securities and Exchange Commission.

ACTION: Interim final temporary rule; correction.

SUMMARY: On July 16, 2012, the Securities and Exchange Commission (“Commission”) published an interim final temporary Rule 15b12-1T to extend the date on which the rule will expire. That rule omitted a comment date and an addresses section in its preamble. This correction adds the comment date and address information in the following captions.

DATES: Effective Date: The rule became effective July 15, 2011, and expires July 16, 2013.

Comment Date: Comments on the amendment to the interim final temporary rule published at FR 77 41671, on July 16, 2012 should be received on or before October 31, 2012.

ADDRESSES: Comments may be submitted by any of the following methods:

Electronic Comments

• Use the Commission's Internet comment form (http://www.sec.gov/rules/interim-final-temp.shtml); or

• Send an email to rule-comments@sec.gov. Please include File Number S7-30-11 on the subject line; or

• Use the Federal eRulemaking Portal (http://www.regulations.gov). Follow the instructions for submitting comments.

Paper Comments

• Send paper comments in triplicate to Elizabeth Murphy, Secretary, Securities and Exchange Commission, 100 F Street NE., Washington, DC 20549.

All submissions should refer to File Number S7-30-11. This file number should be included on the subject line if email is used. To help the Commission to process and review your comments more efficiently, please use only one method. The Commission will post all comments on its Web site: (http://www.sec.gov/rules/interim-final-temp.shtml). Comments are also available for Web site viewing and printing in the Commission's Public Reference Room, 100 F Street NE., Washington, DC 20549 on official business days between the hours of 10 a.m. and 3 p.m. All comments received will be posted without change; the Commission does not edit personal identifying information from submissions. You should submit only information that you wish to make available publicly.

FOR FURTHER INFORMATION CONTACT: Joanne Rutkowski, Branch Chief, Bonnie Gauch, Senior Special Counsel, and Leila Bham, Special Counsel, Division of Trading and Markets, at (202) 551-5550, Securities and Exchange Commission, 100 F Street NE., Washington, DC 20549.

SUPPLEMENTARY INFORMATION:

Statutory Authority

Pursuant to section 2(c)(2) of the Commodity Exchange Act, as well as the Exchange Act as amended, the Commission amended Exchange Act Rule 15b12-1T on July 16, 2012, and with this document correctly adds a comment date and the pertinent addresses.

List of Subjects in 17 CFR Part 240

Brokers, Consumer protection, Currency, Reporting and recordkeeping requirements.

Dated: August 10, 2012.
By the Commission.
Elizabeth M. Murphy,
Secretary.

[FR Doc. 2012-20089 Filed 8-17-12; 8:45 am]

BILLING CODE 8011-01-P